FEDERAL COMMUNICATIONS COMMISSION

[MB Docket No. 16-306; GN Docket No. 12-268; DA 17-584]

Tools Available To Displaced Low Power Television and TV Translator Stations

AGENCY: Federal Communications Commission.

ACTION: Notice.

SUMMARY: This document sets forth tools available to low power television and TV translator stations that are displaced prior to the opening of the Special Displacement Window in the first quarter of 2018.

DATES: July 17, 2017.

FOR FURTHER INFORMATION CONTACT: Joyce Bernstein, joyce.bernstein@fcc.gov or Hossein Hashemzadeh, hossein.hashemzadeh@fcc.gov, Video Division, Media Bureau, Federal Communications Commission.

SUPPLEMENTARY INFORMATION: Auction 1000, which was conducted pursuant to Title VI of the Middle Class Tax Relief and Job Creation Act of 2012, was completed on April 13, 2017, and on June 14, 2017, the Commission granted 2,317 licenses to new wireless licensees in the 600 MHz Band (former television channels 38 through 51 spectrum). Low power television, analog-to-digital replacement translators, and TV translator stations (LPTV/translator stations) on channels 38 through 51 must terminate operation or resolve interference if they receive notice of likely interference to a new 600 MHz Band licensee that intends to commence operations or conduct first field application (FFA) testing. This notice must be in the form of a letter to the LPTV/translator station not less than 120 days in advance of the commence operations or FFA testing date (120-day notice) and the LPTV/translator station must cease operations or eliminate the likelihood of harmful interference by that date. One of the recipients of the licenses granted on June 14, 2017 has indicated that it may commence operations or conduct FFA testing using some of its 600 MHz Band licenses later this year, thereby displacing some LPTV/translator stations.

There is currently a freeze on the filing of displacement applications (Displacement Freeze) and the Commission will release a Displacement Public Notice announcing the date of a Special Displacement Window for operating LPTV/translator stations subject to displacement as a result of the incentive auction and repacking process. The Commission anticipates that the Special Displacement Window will most likely open in the first quarter of 2018, and it therefore appears that some LPTV/translator stations may be displaced by a new 600 MHz Band licensee in 2017, prior to the Special Displacement Window opening in 2018.

In order to permit these displaced stations to continue to provide service to viewers with as little disruption as possible, this document sets forth two mechanisms stations may use to stay on the air. First, until the Special Displacement Window opens, an LPTV/translator station that receives 120-day notice from a wireless licensee may seek to operate on a temporary channel by submitting a displacement application, together with a request for waiver of the Displacement Freeze, and for Special Temporary Authority (STA) to operate on the channel proposed in the displacement application. The ability to operate on a temporary channel is limited to operating LPTV/translator stations on channels 36 through 51 that have received a 120-day notice and whose termination of operation date will occur before the Special Displacement Window opens (eligible LPTV/translator stations). Displacement applications that do not include a copy of the 120-day notice will be dismissed. Displacement applications must also comply with the Commission's rules and will be treated as if filed on the last day of the Special Displacement Window. In considering an STA request the Commission will determine whether the proposed displacement facility complies with technical and interference rules, and stations granted an STA to operate on facilities proposed in their displacement applications may be required to terminate their STA operations if their application is ultimately not granted.

Eligible LPTV/translator stations may also channel share to continue to provide service to viewers in area where channel availability is limited. Two or more eligible LPTV/translator stations may each request a waiver of the Displacement Freeze and submit a displacement application that proposes to share a channel with the other station(s), as well as a request for an STA. Displaced LPTV/translator stations may also submit an application to channel share with another LPTV/translator station that has not received a 120-day notice and such applications are not subject to the Displacement Freeze and may be filed at any time.

Federal Communications Commission.
Barbara Kreisman,
Chief, Video Division, Media Bureau.

[FR Doc. 2017-14882 Filed 7-14-17; 8:45 am]

BILLING CODE 6712-01-P